DEPARTMENT OF THE INTERIOR

Bureau of Land Management

Provide Opportunity To Comment on Changes to the Eastern San Diego County Proposed Resource Management Plan

ACTION: Notice.

SUMMARY: The BLM is soliciting comments, electronic or written, on significant changes and clarifications (collectively “changes”) to the Proposed Plan as set forth in the PRMP for wind energy and VRM. The environmental consequences of the proposed changes and clarification have been analyzed as part of the RMP/EIS process. After considering public comments on these changes, BLM will issue a Record of Decision (ROD) for the Eastern San Diego County Resource Management Plan.

DATES: Written comments on the changes to the PRMP will be accepted until August 27, 2008.

ADDRESSES: Written comments should be submitted to Erin Dreyfuss, Planning and Environmental Coordinator, BLM El Centro Field Office, 1661 S. 4th Street, El Centro, CA 92243. Comments may also be e-mailed to caesdrmp@.ca.blm.gov or faxed to (760) 337-4490 Attention: Erin Dreyfuss, Planning and Environmental Coordinator.

FOR FURTHER INFORMATION CONTACT: Erin Dreyfuss, Planning and Environmental Coordinator, or Thomas Zale, Associate Field Manager, at (760) 337-4400.

SUPPLEMENTARY INFORMATION: The Environmental Protection Agency (EPA) published the Notice of Availability (NOA) for the Eastern San Diego County Draft Resource Management Plan and Draft Environmental Impact Statement (DRMP/EIS) in the Federal Register on March 2, 2007, which initiated a 90-day comment period.

The EPA published the NOA for the Eastern San Diego County Proposed Resource Management Plan and Final Environmental Impact Statement (PRMP/FEIS) in the Federal Register on December 7, 2007, which initiated the 30-day protest period. The PRMP/FEIS identified Alternative E as the Proposed Plan. The BLM received nine (9) protest letters. In response to protests and based on additional policy discussions, the BLM will clarify and make changes to the Proposed Plan as set forth in the PRMP.

Comments (written or electronic) submitted during the 30-day public comment period will be available for public review at the El Centro Field Office during regular business hours 7:45 a.m. to 4:30 p.m., Monday through Friday, except holidays, and will be subject to disclosure under the Freedom of Information Act.

Before including your address, phone number, e-mail address, or other personal identifying information in your comment, you should be aware that your entire comment—including your personal identifying information—may be made publicly available at any time. While you can ask us in your comment to withhold your personal identifying information from public review, we cannot guarantee that we will be able to do so.

The clarification and changes include: (1) Modifying renewable energy (wind) related proposals and (2) clarifying and modifying Visual Resource Management (VRM) proposals and classifications. This Notice identifies the clarifications and changes and initiates a 30-day public notice and comment period. (43 CFR 1610.2(f)(5) and 43 CFR 1610.5-1(b)).

1. Renewable Energy (Wind)—Proposed Changes

The BLM is changing the Proposed Plan, as it was set forth in the PRMP, to allow for additional lands in the planning area to be available for wind energy development. This change is being made in response to issues raised during the protest period, in addition to internal policy discussions.

Concerns have been raised by the public that the Eastern San Diego County PRMP is overly restrictive regarding wind energy development and is not adequately responsive to national goals and directives, summarized herein, regarding renewable energy development on public lands. On May 18, 2001, the President issued Executive Order 13212, Actions to Expedite Energy-Related Projects, establishing a policy that federal agencies should take appropriate actions, to the extent consistent with applicable law, to expedite projects to increase the production, transmission, or conservation of energy. Also in 2001, the President's National Energy Policy Development Group (NEPDG) recommended to the President, as part of the National Energy Policy Report, that the Departments of the Interior, Energy, Agriculture, and Defense work together to increase renewable energy production (NEPDG 2001). The Energy Policy Act of 2005 states that “the Secretary of the Interior should, before the end of the 10-year period beginning on the date of enactment of this Act, seek to have approved non-hydropower renewable energy projects located on the public lands with a generation capacity of at least 10,000 megawatts of electricity.” § 211 Energy Policy Act (2005), Public Law 109-58. Based on a broad scale assessment of wind energy potential in the western United States, the Department of Energy determined that the Eastern San Diego County planning area has approximately 33,100 acres of land with high quality wind resources. From that total, BLM excludes designated Wilderness Areas, Wilderness Study Areas, and Areas of Critical Environmental Concern from wind energy development. These exclusions are consistent with the Record of Decision for the Final Programmatic EIS for Wind Energy Development on BLM-Administered Lands in the Western United States, which was published in December 2005.

BLM also has the discretion to exclude other areas from wind energy development where significant resource impacts or conflicts cannot be mitigated. Other areas that were excluded from wind energy development in the original PRMP include, but are not limited to, designated critical habitat, recreation areas and an existing utility corridor. In applying all of these restrictions, the acres of high quality wind resources available for renewable energy development in the planning area would be reduced to 16,078 acres. Under the original PRMP, many of these remaining lands were designated as VRM Management Class II where wind energy development would likely not comply with the objectives of that management class.

In recognition of concerns raised by the public and in an effort to meet its goals to support renewable energy development on public lands, the BLM is changing the PRMP regarding wind energy in the vicinity of McCain Valley consistent with Alternative D. Specifically, the BLM proposes to designate McCain Valley East (3,635 acres outside of ACECs and WSAs) and McCain Valley West (8,560 acres) as VRM Management Class IV (These areas were designated as VRM Management Class II and III, respectively, in the original PRMP, p. 2-58 and Map 2-5). For more information on the objectives of each VRM Management Class, see the PRMP/FEIS p. 2-57. Please refer to the following table for a comparison of the PRMP changes to VRM Management Classes. The BLM also proposes to make recreation areas in McCain Valley available for renewable energy development consistent with Alternative D. This includes Lark Canyon Off-Highway Vehicle Area and the Lark Canyon Campground/Staging Area (1,300 acres) and Cottonwood Campground (16 acres) (PRMP/FEIS Alternative D, p. 2-110).

Classification of lands | Original PRMP acres | Changed PRMP acres
VRM Class I | 61,908 | 61,908
VRM Class II | 31,623 | 28,033
VRM Class III | 9,288 | 693
VRM Class IV | 51 | 12,236
Total | 102,870 | 102,870

High quality wind resources in McCain Valley and its proximity to the existing utility corridor make it a logical area to focus wind energy development in the planning area. Furthermore, wind energy development currently exists in McCain Valley and is visible in the area. Wind energy development and recreation can effectively coexist in McCain Valley. This decision is consistent with the Record of Decision for the Final Programmatic EIS for Wind Energy Development on BLM-Administered Lands in the Western United States (December 2005). Appropriate mitigation would be required for all future development on or adjacent to recreation areas to minimize user conflicts and degradation of the recreational experience.

2. Visual Resource Management—Proposed Clarification

As part of its protest analysis, the BLM found that it needed to clarify its description of land use restrictions in VRM Management Classes. BLM is required to manage all uses and activities consistent with an area's VRM Management Class as established in the RMP. It is not BLM policy to determine, at the RMP level, which land uses or activities to restrict based on VRM Management Class. Rather, BLM must consider, at the site specific activity level, all uses proposed for an area with a given VRM Management Class and determine if those uses would be consistent with the objectives for that Class.

Therefore, the RMP will be clarified by removing the following restrictions (this will not impact RMP decisions related to designated critical habitat, Wilderness Study Areas (WSAs), or Areas of Environmental Concern (ACECs)):

• VRM Management Class II areas are closed to leasable mineral entry under the Proposed Plan (PRMP/FEIS p. 2-77). Removal of this restriction will result in an additional 27,387 acres open to leasable mineral entry in the planning area (34,993 acres total).

• VRM Management Class II areas are exclusion areas for renewable energy under the Proposed Plan (PRMP/FEIS p. 2-110). Removal of this restriction will result in an additional 27,327 acres available for renewable energy in the planning area (34,259 acres total).

• VRM Management Class II areas are avoidance areas for all land use authorizations under the Proposed Plan (other than renewable energy which is described above) (PRMP/FEIS p. 2-110). Removal of this restriction will allow BLM to consider issuing land use authorizations on approximately 31,600 acres of land designated as VRM Management Class II in the planning area, outside of designated critical habitat, WSAs, and ACECs.

All future development in the planning area would adhere to the VRM Management Class objectives established in the RMP (PRMP/FEIS p. 2-57). For example, VRM Class II objectives require that the existing character of the landscape be retained and that the level of change to be low. In order to meet these objectives, BLM expects that the level of development in VRM Management Class II would be very minimal. BLM will utilize visual resource design techniques and best management practices to mitigate the potential visual impacts. Visual contrast ratings will be required for all major projects proposed for VRM Management Class I, II, and III areas which have high sensitivity levels. In areas where VRM Management Class objectives cannot be met through design techniques and/or best management practices, BLM has the authority to deny the project. (PRMP/FEIS p. 2-57 and 2-58).

Mike Pool,
State Director, California.

[FR Doc. E8-17208 Filed 7-25-08; 8:45 am]

BILLING CODE 4310-40-P